DEPARTMENT OF COMMERCE

International Trade Administration

Texas Christian University, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, 14th and Constitution Avenue., NW., Washington, DC.

Docket Number: 08-019. Applicant: Texas Christian University, Fort Worth, TX 76129. Instrument: Electron Microscope, Model JEM-2100. Manufacturer: JEOL, Inc., Japan. Intended Use: See notice at 73 FR 30378, May 27, 2008.

Docket Number: 08-023. Applicant: Washington University in St. Louis, University City, MO 63130. Instrument: Electron Microscope, Model Tecnai G2 Spirit Twin. Manufacturer: FEI Company, Czech Republic. Intended Use: See notice at 73 FR 30378, May 27, 2008.

Docket Number: 08-024. Applicant: Washington University in St. Louis, University City, MO 63130. Instrument: Electron Microscope, Model Nova NanoSEM 230. Manufacturer: FEI Company, Czech Republic. Intended Use: See notice at 73 FR 30378, May 27, 2008.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: June 16, 2008.
Faye Robinson,
Director, Statutory Import Programs Staff, Import Administration.

[FR Doc. E8-13888 Filed 6-18-08; 8:45 am]

BILLING CODE 3510-DS-P